DEPARTMENT OF AGRICULTURE

Agricultural Marketing Service

[Document No. AMS-FV-14-0025, FV-14-327]

United States Standard of Identity for Honey; Extension of Comment Period

AGENCY: Agricultural Marketing Service, USDA.

ACTION: Notice; extension of comment period.

SUMMARY: The Agricultural Marketing Service (AMS) of the Department of Agriculture (USDA) is extending the comment period for the solicitation of comments on how a Federal standard of identity for honey would be in the interest of consumers, the honey industry, and U.S. agriculture.

DATES: AMS is extending the comment period on the notice published August 20, 2014 (79 FR 49279). Comments must be received by October 19, 2014.

ADDRESSES: Interested persons are invited to submit written comments via the Internet at http://www.regulations.gov or to Brian E. Griffin, Standardization Branch, Specialty Crops Inspection Division, Fruit and Vegetable Program, Agricultural Marketing Service, U.S. Department of Agriculture, 1400 Independence Avenue SW., Room 0709-South Building; STOP 0247, Washington, DC 20250; telephone (202) 720-5021; fax (202) 690-1527, email brian.griffin@ams.usda.gov. Comments should make reference to the date and page number of this issue of the Federal Register and will be made available for public inspection at the above office during regular business hours.

Please be advised that all comments submitted in response to this notice will be included in the record and will be made available to the public on the Internet via http://www.regulations.gov. Also, the identity of the individuals or entities submitting the comments will be made public.

FOR FURTHER INFORMATION CONTACT: Brian E. Griffin, Standardization Branch, Specialty Crops Inspection Division, Agricultural Marketing Service, U.S. Department of Agriculture, telephone (202) 720-5021or fax (202) 690-1527.

Background

In the Federal Register of August 20, 2014 (79 FR 49279), AMS published a notice requesting comment on how a Federal standard of identity for honey would be in the interest of consumers, the honey industry, and U.S. agriculture with a 30-day comment period. Comments received from this notice will be utilized in the preparation of a report from the Secretary of Agriculture to the Commissioner of Food and Drugs describing how a Federal standard of identity for honey would be in the interest of consumers, the honey industry, and U.S. agriculture.

AMS has received correspondence from an interested person requesting a 30-day extension of the comment period for the notice. Concern was expressed that the initial 30-day comment period does not allow sufficient time for meaningful public participation. AMS believes that a 30-day extension will allow adequate time for interested persons to submit comments without causing a significant delay.

Authority: Section 10012 of the Agricultural Act of 2014 (Pub. L. 113-79).

Dated: September 16, 2014.
Rex A. Barnes,
Associate Administrator, Agricultural Marketing Service.

[FR Doc. 2014-22406 Filed 9-19-14; 8:45 am]

BILLING CODE 3410-02-P